DEPARTMENT OF ENERGY

Federal Energy Regulatory Commission

Combined Notice of Filings #1

Take notice that the Commission received the following electric corporate filings:

Docket Numbers: EC25-126-000.

Applicants: West Deptford Energy, LLC.

Description: Application for Authorization Under Section 203 of the Federal Power Act of West Deptford Energy, LLC.

Filed Date: 8/12/25.

Accession Number: 20250812-5192.

Comment Date: 5 p.m. ET 9/2/25.

Take notice that the Commission received the following exempt wholesale generator filings:

Docket Numbers: EG25-446-000.

Applicants: Roy Solar, LLC.

Description: Roy Solar, LLC submits Notice of Self-Certification of Exempt Wholesale Generator Status.

Filed Date: 8/12/25.

Accession Number: 20250812-5166.

Comment Date: 5 p.m. ET 9/2/25.

Docket Numbers: EG25-447-000.

Applicants: Persica Solar, LLC.

Description: Persica Solar, LLC submits Notice of Self-Certification of Exempt Wholesale Generator Status.

Filed Date: 8/12/25.

Accession Number: 20250812-5168.

Comment Date: 5 p.m. ET 9/2/25.

Docket Numbers: EG25-448-000.

Applicants: Cimarron Wind, LLC.

Description: Cimarron Wind, LLC submits Notice of Self-Certification of Exempt Wholesale Generator Status.

Filed Date: 8/12/25.

Accession Number: 20250812-5171.

Comment Date: 5 p.m. ET 9/2/25.

Take notice that the Commission received the following electric rate filings:

Docket Numbers: ER21-2460-010.

Applicants: New York Independent System Operator, Inc.

Description: Compliance filing: NYISO Compliance Errata re: Order 2222 December 2024 Compliance Filing to be effective 12/31/9998.

Filed Date: 8/13/25.

Accession Number: 20250813-5071.

Comment Date: 5 p.m. ET 9/3/25.

Docket Numbers: ER23-652-002; ER23-2802-002.

Applicants: Oxbow Solar Farm 1, LLC, Happy Solar 1, LLC.

Description: Notice of Non-Material Change in Status of Happy Solar 1, LLC, et al.

Filed Date: 8/11/25.

Accession Number: 20250811-5177.

Comment Date: 5 p.m. ET 9/2/25.

Docket Numbers: ER24-3131-001.

Applicants: Two Hearted Solar, LLC.

Description: Notice of Non-Material Change in Status of Two Hearted Solar, LLC.

Filed Date: 8/12/25.

Accession Number: 20250812-5195.

Comment Date: 5 p.m. ET 9/2/25.

Docket Numbers: ER25-1461-000.

Applicants: Sol InfraCo MT3, LLC.

Description: Report Filing: Sol InfraCo MT3 Notification of Effective Date to be effective N/A.

Filed Date: 8/13/25.

Accession Number: 20250813-5132.

Comment Date: 5 p.m. ET 9/3/25.

Docket Numbers: ER25-1837-000; ER25-2676-000; ER25-2675-000.

Applicants: West Boylston Energy Storage I LLC ,OSCII Gildersleeve, LLC, OSCII Gun Hill LLC.

Description: Supplement to 03/31/2025, and 06/27/2025, OSCII Gun Hill LLC et al., tariff filing.

Filed Date: 8/11/25.

Accession Number: 20250811-5178.

Comment Date: 5 p.m. ET 9/2/25.

Docket Numbers: ER25-2236-001.

Applicants: Aron Energy Prepay 36 LLC.

Description: Tariff Amendment: Amendment to 2 to be effective 5/16/2025.

Filed Date: 8/13/25.

Accession Number: 20250813-5069.

Comment Date: 5 p.m. ET 9/3/25.

Docket Numbers: ER25-2238-001.

Applicants: Pacific Gas and Electric Company.

Description: Tariff Amendment: TO: Dinuba BESS Abandoned Plant Cost Recovery Response to Deficiency Letter to be effective 7/15/2025.

Filed Date: 8/13/25.

Accession Number: 20250813-5064.

Comment Date: 5 p.m. ET 9/3/25.

Docket Numbers: ER25-3167-000.

Applicants: Dominion Energy Services, Inc.

Description: Request of Virginia Electric and Power Company for Limited Waivers and Request for Shortened Comment Period and Expedited Treatment.

Filed Date: 8/12/25.

Accession Number: 20250812-5184.

Comment Date: 5 p.m. ET 8/19/25.

Docket Numbers: ER25-3168-000.

Applicants: PJM Interconnection, L.L.C.

Description: 205(d) Rate Filing: NSA Service Agreement No. 7722; Project Identifier AG1-066 to be effective 7/16/2025.

Filed Date: 8/13/25.

Accession Number: 20250813-5029.

Comment Date: 5 p.m. ET 9/3/25.

Docket Numbers: ER25-3170-000.

Applicants: NSTAR Electric Company.

Description: 205(d) Rate Filing: NSTAR-HQUS Transfer Agreement (MMWEC Use Rights) to be effective 10/31/2025.

Filed Date: 8/13/25.

Accession Number: 20250813-5059.

Comment Date: 5 p.m. ET 9/3/25.

Docket Numbers: ER25-3171-000.

Applicants: 1000 Mile Solar, LLC.

Description: Initial Rate Filing: Market-Based Rate Application to be effective 10/13/2025.

Filed Date: 8/13/25.

Accession Number: 20250813-5073.

Comment Date: 5 p.m. ET 9/3/25.

Docket Numbers: ER25-3172-000.

Applicants: Genesee Solar Energy, LLC.

Description: 205(d) Rate Filing: Application For Market-Based Rate Authorization to be effective 10/20/2025.

Filed Date: 8/13/25.

Accession Number: 20250813-5110.

Comment Date: 5 p.m. ET 9/3/25.

Docket Numbers: ER25-3173-000.

Applicants: PJM Interconnection, L.L.C.

Description: Notice of Cancellation of Service Agreement No. 1768 of PJM Interconnection, L.L.C.

Filed Date: 8/13/25.

Accession Number: 20250813-5124.

Comment Date: 5 p.m. ET 9/3/25.

Docket Numbers: ER25-3174-000.

Applicants: NorthWestern Corporation.

Description: NorthWestern Corporation submits Average System Cost Filing for Sales of Electric Power to the Bonneville Power Administration, FY 2026-2028.

Filed Date: 8/12/25.

Accession Number: 20250812-5197.

Comment Date: 5 p.m. ET 9/2/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 13, 2025.
Carlos D. Clay,
Deputy Secretary.

[FR Doc. 2025-15699 Filed 8-15-25; 8:45 am]

BILLING CODE 6717-01-P